Title 3—

The President

Memorandum of December 15, 2009

Directing Certain Actions With Respect to Acquisition and Use of Thomson Correctional Center To Facilitate Closure of Detention Facilities at Guantanamo Bay Naval Base

Memorandum for the Secretary of Defense [and] the Attorney General

By the authority vested in me as President and as Commander in Chief of the Armed Forces of the United States by the Constitution and the laws of the United States of America, including the Authorization for Use of Military Force (Public Law 107-40, 115 Stat. 224), and in order to facilitate the closure of detention facilities at the Guantanamo Bay Naval Base, I hereby direct that the following actions be taken as expeditiously as possible with respect to the facility known as the Thomson Correctional Center (TCC) in Thomson, Illinois:

1. The Attorney General shall acquire and activate the TCC as a United States Penitentiary, which the Attorney General has determined would reduce the Bureau of Prisons' shortage of high security, maximum custody cell space and could be used for other appropriate inmate or detainee management purposes. The Attorney General shall also provide to the Department of Defense a sufficient portion of the TCC to serve as a detention facility to be operated by the Department of Defense in order to accommodate the relocation of detainees by the Secretary of Defense in accordance with paragraph 2 of this memorandum.

2. The Secretary of Defense, working in consultation with the Attorney General, shall prepare the TCC for secure housing of detainees currently held at the Guantanamo Bay Naval Base who have been or will be designated for relocation, and shall relocate such detainees to the TCC, consistent with laws related to Guantanamo detainees and the findings in, and interagency Review established by, Executive Order 13492 of January 22, 2009.

This memorandum is not intended to, and does not, create any right or benefit, substantive or procedural, enforceable at law or in equity, by any party against the United States, its departments, agencies, or entities, its officers, employees, or agents, or any other person.

The Secretary of Defense is authorized and directed to publish this memorandum in the Federal Register.

THE WHITE HOUSE,

Washington, December 15, 2009

[FR Doc. E9-30225

Filed 12-16-09; 11:15 am]

Billing code 5000-04-P